DEPARTMENT OF COMMERCE

National Oceanic and Atmospheric Administration

50 CFR Part 622

[I.D. 100201D]

Fisheries of the Caribbean, Gulf of Mexico, and South Atlantic; Snapper-Grouper Fishery of the South Atlantic; Public and Scoping Meetings

AGENCY: National Marine Fisheries Service (NMFS), National Oceanic and Atmospheric Administration (NOAA), Commerce.

ACTION: Notice of public and scoping meetings.

SUMMARY: The South Atlantic Fishery Management Council (Council) will hold a meeting of its Snapper Grouper Committee, a joint meeting of its Executive and Finance Committees, and a public scoping meeting in Charleston, SC.

DATES: The Snapper Grouper Committee will meet October 29, 2001 from 1:30 p.m. until 5 p.m. and October 30, 2001, from 8:30 a.m. until 5 p.m. The joint meeting of the Executive and Finance Committees will take place October 31, 2001, from 8:30 a.m. until 1 p.m. The public scoping meeting will take place October 29, 2001, at 6 p.m.

ADDRESSES: Copies of the scoping documents are available by contacting Kim Iverson, South Atlantic Fishery Management Council, One Southpark Circle, Suite 306, Charleston, SC 29407-469; telephone: 843-571-4366; fax: 843-769-4520.

FOR FURTHER INFORMATION CONTACT: Kim Iverson, Public Information Officer; telephone: (843) 571-4366; fax: (843) 769-4520; e-mail: kim.iverson@noaa.gov.

SUPPLEMENTARY INFORMATION: The Snapper Grouper Committee will meet October 29-30, 2001, to address a list of items for Amendment 13 to the Fishery Management Plan for the Snapper-Grouper Fishery of the South Atlantic Region, including permit transfers, Sustainable Fisheries Act provisions, snowy grouper and golden tilefish management, and Endangered Species Act Section 7 consultation regarding impacts on endangered species. In addition, the Snapper Grouper Committee will review recommendations from the Marine Protected Areas (MPA) Committee regarding site locations and other items for consideration in establishing MPAs. The Snapper Grouper Committee will then develop recommendations for the full Council to consider.

The Executive and Finance Committees will meet on October 31, 2001, to address several items including: an update on the Calendar Year (CY) 2001 budget; approval of the proposed CY2002 Fishery Management Plan (FMP)/Amendment/Framework timelines; the status of the CY2002 budget and funding for compliance with the National Environmental Policy Act (NEPA); a briefing on the CY2002 Operations Plan meeting, and a review of the status of the reauthorization of the Magnuson Stevens Fishery Conservation Management Act.

On October 29, 2001, a public scoping meeting will take place to address two separate issues. The first is to explore potential options for establishing additional Habitat Areas of Particular Concern under the FMP for Coral, Coral Reefs, and Live/Hard Bottom Habitats of the South Atlantic Region. The second issue will be the possible development of a Comprehensive FMP Amendment to all of the FMPs under the Council’s authority to standardize permit renewal timeframes, operator permits, a consolidated controlled access system, and the Atlantic Coast Cooperative Statistics Program's permits and reporting.

All of these meetings will be held at the Town & Country Inn, 2008 Savannah Highway, Charleston, SC 29407. Phone 843-571-1000; FAX 843-766-9444.

Special Accommodations

These meetings are physically accessible to people with disabilities. Requests for sign language interpretation or other auxiliary aids should be directed to the Council office (see ADDRESSES) by October 25, 2001.

Dated: October 9, 2001.
Bruce C. Morehead,
Acting Director, Office of Sustainable Fisheries, National Marine Fisheries Service.

[FR Doc. 01-25901 Filed 10-12-01; 8:45 am]

BILLING CODE 3510-22-S